DEPARTMENT OF LABOR

Employment and Training Administration

[TA-W-65,734]

Meridian Automotive Systems, Plant 5, Grand Rapids, MI; Notice of Termination of Investigation

Pursuant to Section 221 of the Trade Act of 1974, as amended, an investigation was initiated on April 2, 2009, in response to a petition filed by a company official on behalf of workers at Meridian Automotive Systems, Plant 5, Grand Rapids, Michigan. The workers at the subject facility produce injection molded plastic parts.

The petitioner has requested that the petition be withdrawn. Consequently, the investigation has been terminated.

Signed in Washington, DC, this 8th day of May 2009.
Richard Church,
Certifying Officer, Division of Trade Adjustment Assistance.

[FR Doc. E9-13448 Filed 6-8-09; 8:45 am]

BILLING CODE 4510-FN-P